DEPARTMENT OF ENERGY

Environmental Management Site-Specific Advisory Board, Savannah River Site; Meeting

AGENCY: Office of Environmental Management, Department of Energy.

ACTION: Notice of open meeting.

SUMMARY: This notice announces a meeting of the Environmental Management Site-Specific Advisory Board (EM SSAB), Savannah River Site. The Federal Advisory Committee Act requires that public notice of this meeting be announced in the Federal Register.

DATES: Monday, March 25, 2019; 1:00 p.m.-5:00 p.m. Tuesday, March 26, 2019; 9:00 a.m.-5:00 p.m.

ADDRESSES: Partridge Inn, 2110 Walton Way, Augusta, Georgia 30904.

FOR FURTHER INFORMATION CONTACT: Amy Boyette, Office of External Affairs, Department of Energy, Savannah River Operations Office, P.O. Box A, Aiken, SC 29802; Phone: (803) 952-6120.

SUPPLEMENTARY INFORMATION: Purpose of the Board: The purpose of the Board is to make recommendations to DOE-EM and site management in the areas of environmental restoration, waste management, and related activities.

Tentative Agenda

Monday, March 25, 2019

Opening, Chair Update, and Agenda Review

Agency Updates

Break

Administrative & Outreach Committee Update

Facilities Disposition & Site Remediation Committee Update

Nuclear Materials Committee Update

Strategic & Legacy Management Committee Update

Waste Management Committee Update

Break

Presentation: Environmental Surveillance and Oversight Program of the S.C. Department of Health and Environmental Control (DHEC)

Discussion of Draft Recommendations:

• Pollinator Management Program

• Savannah River Site National Environmental Research Park Support

Discussion on Integrated Priority List

Public Comments

Recess

Tuesday, March 26, 2019

Reconvene

Agenda Review

Update on Building 235-F Deactivated State:

• Risk Reduction Status

• Closure Activities

Lunch Break

H-Canyon and L-Basin Alternatives:

• Overview of Options for Operating H-Canyon

• H-Canyon 2024 and 2027 Scenario

• H-Canyon 2030 and 2040 Scenario

• Process of Closing Facilities: How Decisions Are Made

• Spent Nuclear Fuel Inventory

Public Comments

Voting:

• Letter Regarding Integrated Priority List

• Draft Recommendations:

○ Pollinator Management Program

○ Savannah River Site National Environmental Research Park Support

Adjourn

Public Participation: The meeting is open to the public. The EM SSAB, Savannah River Site, welcomes the attendance of the public at its advisory committee meetings and will make every effort to accommodate persons with physical disabilities or special needs. If you require special accommodations due to a disability, please contact Amy Boyette at least seven days in advance of the meeting at the phone number listed above. Written statements may be filed with the Board either before or after the meeting. Individuals who wish to make oral statements pertaining to agenda items should contact Amy Boyette's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Amy Boyette at the address or phone number listed above. Minutes will also be available at the following website: http://cab.srs.gov/srs-cab.html.

Signed in Washington, DC on February 12, 2019.
LaTanya Butler,
Deputy Committee Management Officer.

[FR Doc. 2019-02797 Filed 2-19-19; 8:45 am]

BILLING CODE 6450-01-P